DEPARTMENT OF HEALTH AND HUMAN SERVICES

Centers for Disease Control and Prevention

Advisory Council for the Elimination of Tuberculosis Meeting (ACET)

In accordance with section 10(a)(2) of the Federal Advisory Committee Act (Pub. L. 92-463), the Centers for Disease Control and Prevention (CDC) announces the following meeting for the aforementioned committee:

Time and Date: 11:00 a.m.-3:30 p.m., June 5, 2012.

Place: This meeting is accessible by Web conference. Toll-free +1 (800) 369-1742, Toll +1 (517) 308-9167; Participant Code: ACET 2012. For Participants: URL: https://www.mymeetings.com/nc/join/.

Conference number: PW5343563.

Audience passcode: ACET 2012.

Participants can join the event directly at: https://www.mymeetings.com/nc/join.php?i=PW5343563&p=ACET%202012&t=c.

Status: Open to the public limited only by Web conference. Participation by Web conference is limited by the number of 150 ports available.

Purpose: This council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters To Be Discussed: Agenda items include the following topics: (1) Developing a 3-5 year Strategic Plan for ACET; (2) Modeling TB Epidemiology; (3) Tuberculosis Outbreaks in Special Populations; (4) The Restructuring of United States Tuberculosis Program (TRUST)—How to Manage Budget Cuts; and (5) other tuberculosis-related issues.

Agenda items are subject to change as priorities dictate.

Contact Person for More Information: Margie Scott-Cseh, Centers for Disease Control and Prevention, 1600 Clifton Road, NE., M/S E-07, Atlanta, Georgia 30333, telephone (404) 639-8317; Email: zkr7@cdc.gov.

The Director, Management Analysis and Services Office, has been delegated the authority to sign Federal Register Notices pertaining to announcements of meetings and other committee management activities, for both the Centers for Disease Control and Prevention and the Agency for Toxic Substances and Disease Registry.

Dated: May 4, 2012.
Cathy Ramadei,
Acting Director, Management Analysis and Services Office, Centers for Disease Control and Prevention.

[FR Doc. 2012-11405 Filed 5-10-12; 8:45 am]

BILLING CODE 4163-18-P